DEPARTMENT OF THE INTERIOR

National Park Service

[NPS-WASO-NAGPRA-NPS0034875; PPWOCRADN0-PCU00RP14.R50000]

Notice of Inventory Completion: Peabody Museum of Archaeology and Ethnology, Harvard University, Cambridge, MA

AGENCY: National Park Service, Interior.

ACTION: Notice.

SUMMARY: The Peabody Museum of Archaeology and Ethnology, Harvard University has completed an inventory of human remains and associated funerary objects, in consultation with the appropriate Indian Tribes or Native Hawaiian organizations, and has determined that there is no cultural affiliation between the human remains and associated funerary objects and any present-day Indian Tribes or Native Hawaiian organizations. Representatives of any Indian Tribe or Native Hawaiian organization not identified in this notice that wish to request transfer of control of these human remains and associated funerary objects should submit a written request to the Peabody Museum of Archaeology and Ethnology, Harvard University. If no additional requestors come forward, transfer of control of the human remains and associated funerary objects to the Indian Tribes or Native Hawaiian organizations stated in this notice may proceed.

DATES: Representatives of any Indian Tribe or Native Hawaiian organization not identified in this notice that wish to request transfer of control of these human remains and associated funerary objects should submit a written request with information in support of the request to the Peabody Museum of Archaeology and Ethnology, Harvard University at the address in this notice by December 19, 2022.

FOR FURTHER INFORMATION CONTACT: Jane Pickering, William & Muriel Seabury Howells Director, Peabody Museum of Archaeology and Ethnology, Harvard University, 11 Divinity Avenue, Cambridge, MA 02138, telephone (617) 496-2374, email jpickering@fas.harvard.edu.

SUPPLEMENTARY INFORMATION: Notice is here given in accordance with the Native American Graves Protection and Repatriation Act (NAGPRA), 25 U.S.C. 3003, of the completion of an inventory of human remains and associated funerary objects under the control of the Peabody Museum of Archaeology and Ethnology, Harvard University, Cambridge, MA. The human remains and associated funerary objects were removed from Essex, Middlesex, Norfolk, and Suffolk Counties, MA.

This notice is published as part of the National Park Service's administrative responsibilities under NAGPRA, 25 U.S.C. 3003(d)(3) and 43 CFR 10.11(d). The determinations in this notice are the sole responsibility of the museum, institution, or Federal agency that has control of the Native American human remains and associated funerary objects. The National Park Service is not responsible for the determinations in this notice.

Consultation

A detailed assessment of the human remains and associated funerary objects was made by the Peabody Museum of Archaeology and Ethnology professional staff in consultation with representatives of the Mashpee Wampanoag Tribe (previously listed as Mashpee Wampanoag Indian Tribal Council, Inc.); Narragansett Indian Tribe; Wampanoag Tribe of Gay Head (Aquinnah); and three non-federally recognized Indian groups: the Assonet Band of the Wampanoag Nation; Massachusett-Ponkapoag Tribal Council; and the Nipmuc Nation Tribal Council Inc. (hereafter referred to as “The Consulted Tribes and Groups”).

History and description of the Remains

Essex County, MA

Sometime prior to 1912, human remains representing, at minimum, one individual were removed by Andrew Lee II from Lee Field, located in Manchester-by-the-Sea. In June of 1912, Lee donated the human remains of this individual to the Peabody Museum through Alice E. Putnam. Descriptions of the burial noted the presence of several skeletons accompanied by a large piece of sheet copper, an iron tomahawk, several bone points, cordage, and other unnamed funerary objects. The funerary objects described in the burial suggest the interment dates to the Historic/Contact Period (i.e., post-500 B.P.). The human remains are hair. No known individual was identified. The two associated funerary objects are one bone point and one vial of fragments of matting and human hair.

Around 1864, human remains representing, at minimum, two individuals were removed by an unknown person from an “Indian cemetery” in Marblehead. In 1916, F. H. C. Reynolds donated the human remains to the Peabody Museum. A description of the burial noted that the skeletons were laid in a flexed position; no other contextual information is available. The human remains are nearly complete crania belonging to two adult females. No known individuals were identified. No associated funerary objects are present.

At an unknown date, human remains representing, at minimum, one individual were removed by an unknown person from a gravel pit in Boxford. In 1917, the town donated these human remains to the Peabody Museum. The human remains are cranial fragments belonging to an adult male. No known individual was identified. No associated funerary objects are present.

At an unknown date, human remains representing, at minimum, two individuals were removed by an unknown person from an unknown site in Salem. In 1919, the Peabody Museum of Salem, now the Peabody Essex Museum, donated these human remains to the Peabody Museum at Harvard University. The human remains are cranial and postcranial fragments belonging to two adults, one male and one of unknown sex. No known individuals were identified. No associated funerary objects are present.

In 1921, human remains representing, at minimum, six individuals were removed by Alfred Vincent Kidder from the Shattuck Farm Site in Andover. In 1921, Kidder and the Department of Archaeology at the Phillips Andover Academy donated these human remains to the Peabody Museum. Kidder described a small celt, a set of antler punches, a bone or antler harpoon head, and four or five small arrowpoints accompanying the burial. These items are not in the collection of the Peabody Museum. The Shattuck Farm Site dates from the Archaic to Historic time periods. The human remains are cranial and postcranial fragments belonging to one male adult, one female adult, three adults of unknown sex, and one child of unknown sex. No known individuals were identified. The one associated funerary object is a stone gouge.

At an unknown date, human remains representing, at minimum, nine individuals were removed by an unknown person from “Indian graves” in Manchester-by-the-Sea. In 1922, George A. Gray donated these human remains to the Peabody Museum. Also in 1922, the heirs of John Lee (Sarah Crombie, Emma F. Priest, Mrs. Downing Lee, Mrs. Andrew Lee, and Mary E. Blaisdell) donated the associated funerary objects and the hair of one of these individuals to the Peabody Museum. The site from which these human remains and associated funerary objects were removed is possibly Lee Field, based on the description of a grave in Manchester-by-the-Sea discovered about fourteen inches below the surface and containing four skeletons lying side-by-side with their heads to the west. Based on the associated funerary objects and copper stains present on some of the human remains, this interment most likely dates to the Historic/Contact Period (i.e., post-500 B.P.). The human remains are the nearly complete cranium and hair belonging to an adult male; cranial fragments belonging to one adult male and one adult of unknown sex; and cranial and postcranial fragments belonging to one adult male, three adults of unknown sex, one subadult of unknown sex, and one child of unknown sex. No known individuals were identified. The 33 associated funerary objects are five fragments of wooden spoons, six broken bone arrowpoints, one broken terracotta tobacco pipe, one lot of fragments of a beaver incisor, one lot of fragments of brass plate, six fragments of textile, six fragments of cordage, six red fox bones, and one mammal long bone.

In 1904, human remains representing, at minimum, two individuals were removed by Dr. Francis B. Harrington from graves located at “Indian Ridge,” on Harrington's estate in Ipswich. In 1927, Harrington's wife donated these human remains to the Peabody Museum. Copper staining on the human remains, as well as European items accompanying the burial, indicate a post-Contact date for the interment (i.e., A.D. post-1600). The human remains are cranial and postcranial fragments belonging to two adults of unknown sex. No known individuals were identified. The four associated funerary objects are one ceramic and brass or copper elbow pipe, one broken bracelet strand with loose beads, one necklace of white and blue glass beads, and one brass brazier. The brazier most likely dates to the latter half of the sixteenth century and was possibly obtained from a Spanish or Portuguese ship visiting the area.

Around 1944, human remains representing, at minimum, one individual were removed by Frank W. Snow from sand under a building on Plum Island. In 1946, Snow sent these human remains to Harvard University's Department of Legal Medicine, which donated the human remains to the Peabody Museum through Alan R. Moritz that same year. The human remains are the nearly complete cranium and postcranial fragments belonging to an adult female. No known individual was identified. No associated funerary objects are present.

At an unknown date, human remains representing, at minimum, one individual were removed by an unknown person from an unknown site in Danvers. In 1950, the Peabody Museum of Salem, now the Peabody Essex Museum, donated these human remains to the Peabody Museum through Ernest S. Dodge. Copper staining on the cranium indicates the individual was interred during the post-Contact/Early Historic Period or later (i.e., A.D. post-1614). The human remains are the partial cranium belonging to an adult female. No known individual was identified. No associated funerary objects are present.

At an unknown date, human remains representing, at minimum, one individual were removed by an unknown person from an unknown site in Andover. In 1950, the Peabody Museum of Salem, now the Peabody Essex Museum, donated these human remains to the Peabody Museum through Ernest S. Dodge. Based on an osteological analysis of the human remains, this individual was of mixed Native American and African/African American ancestry, indicating the individual lived during the post-Contact/Early Historic Period or later (i.e., A.D. post-1614). The human remains are the partial cranium belonging to a subadult of unknown sex. No known individual was identified. No associated funerary objects are present.

At an unknown date, human remains representing, at minimum, one individual were removed by an unknown person from an unknown site in Andover. In 1950, the Peabody Museum of Salem, now the Peabody Essex Museum, donated these human remains to the Peabody Museum through Ernest S. Dodge. The human remains are the partial cranium belonging to an adult male. No known individual was identified. No associated funerary objects are present.

At an unknown date, human remains representing, at minimum, one individual were removed by an unknown person from a site in Annisquam, a village in Gloucester. In 1950, the Peabody Museum of Salem, now the Peabody Essex Museum, donated these human remains to the Peabody Museum through Ernest S. Dodge. The human remains are the nearly complete cranium belonging to an adult male. No known individual was identified. No associated funerary objects are present.

At an unknown date, human remains representing, at minimum, one individual were removed by an unknown person from an unknown site in Beverly. In 1950, the Peabody Museum of Salem, now the Peabody Essex Museum, donated the human remains to the Peabody Museum through Ernest S. Dodge. The human remains are the partial cranium belonging to an adult male. No known individual was identified. No associated funerary objects are present.

At an unknown date, human remains representing, at minimum, one individual were removed by an unknown person from Summer Street in Salem. In 1950, the Peabody Museum of Salem, now the Peabody Essex Museum, donated these human remains to the Peabody Museum through Ernest S. Dodge. Copper staining on the cranium indicates the individual was interred during the post-Contact/Early Historic Period or later (i.e., A.D. post-1614). The human remains are cranial fragments belonging to an adult female. No known individual was identified. No associated funerary objects are present.

At an unknown date, human remains representing, at minimum, one individual were removed by an unknown person from Turner Street in Salem. In 1950, the Peabody Museum of Salem, now the Peabody Essex Museum, donated these human remains to the Peabody Museum through Ernest S. Dodge. The human remains are cranial fragments belonging to an adult male. No known individual was identified. No associated funerary objects are present.

At an unknown date, human remains representing, at minimum, two individuals were removed by an unknown person from Salem Harbor. In 1950, the Peabody Museum of Salem, now the Peabody Essex Museum, donated these human remains to the Peabody Museum through Ernest S. Dodge. The human remains are cranial fragments belonging to an adult of unknown sex and the partial cranium belonging to an adult female. No known individuals were identified. No associated funerary objects are present.

At an unknown date, human remains representing, at minimum, two individuals were removed by an unknown person from the vicinity of Fort Lee in Salem. In 1950, the Peabody Museum of Salem, now the Peabody Essex Museum, donated these human remains to the Peabody Museum through Ernest S. Dodge. The human remains are the partial cranium belonging to an adult who is probably male and postcranial fragments belonging to an adult female. No known individuals were identified. No associated funerary objects are present.

At an unknown date, human remains representing, at minimum, two individuals were removed by an unknown person from Jessy W. Peabody's land in Middletown. In 1950, the Peabody Museum of Salem, now the Peabody Essex Museum, donated these human remains to the Peabody Museum through Ernest S. Dodge. The human remains are the partial cranium and postcranial elements belonging to an adult female and postcranial fragments belonging to an adult of unknown sex. No known individuals were identified. No associated funerary objects are present.

At an unknown date, human remains representing, at minimum, one individual were removed by an unknown person from an unknown site in Essex. In 1950, the Peabody Museum of Salem, now the Peabody Essex Museum, donated these human remains to the Peabody Museum through Ernest S. Dodge. The human remains are cranial and postcranial fragments belonging to an adult male. No known individual was identified. No associated funerary objects are present.

At an unknown date, human remains representing, at minimum, three individuals were removed by an unknown person from Lagrange Street in Salem. In 1950, the Peabody Museum of Salem, now the Peabody Essex Museum, donated these human remains to the Peabody Museum through Ernest S. Dodge. The human remains are cranial and postcranial fragments belonging to one adult male, one adult female, and one adult of unknown sex. No known individuals were identified. No associated funerary objects are present.

In August of 1892, human remains representing, at minimum, four individuals were removed by the Salem Gas Company from Lagrange Street in Salem. In June of 1916, the Salem Gas Company presented these human remains to the Peabody Museum of Salem, now the Peabody Essex Museum, which in turn donated them to the Peabody Museum in 1950, through Ernest S. Dodge. The human remains are cranial fragments and postcranial elements belonging to one adult male, one adult female, and two subadults of unknown sex. No known individuals were identified. No associated funerary objects are present.

At an unknown date, human remains representing, at minimum, three individuals were removed by an unknown person from an unknown site in Salem. In 1950, the Peabody Museum of Salem, now the Peabody Essex Museum, donated these human remains to the Peabody Museum through Ernest S. Dodge. The human remains are partial cranial and postcranial elements belonging to two adult males and one subadult of unknown sex. No known individuals were identified. No associated funerary objects are present.

In October of 1866, human remains representing, at minimum, six individuals were removed by David Moore from Salem. In December of 1953, these human remains were donated anonymously to the Peabody Museum. The human remains are postcranial fragments belonging to an adult of unknown sex, cranial and postcranial fragments belonging to an adult of unknown sex, cranial fragments belonging to two children of unknown sex, the partial cranium and postcranial elements belonging to a child of unknown sex, and postcranial fragments belonging to a fetus of unknown sex. No known individuals were identified. No associated funerary objects are present.

At an unknown date, human remains representing, at minimum, six individuals were removed by an unknown person from an unknown site in Ipswich. In 1957, Richard Ford of the Harvard School of Legal Medicine donated these human remains to the Peabody Museum through Edward E. Hunt. The human remains are cranial and postcranial fragments belonging to five children and one infant, all of unknown sex. No known individuals were identified. No associated funerary objects are present.

In July of 1957, human remains representing, at minimum, one individual were removed by Theodore L. Stoddard of the Robert S. Peabody Foundation from the Belosselsky Estate in Ipswich. In November of 1957, Princess Florence Crane Belosselsky donated these human remains to the Peabody Museum. The human remains were located approximately two feet below the rim of a drumlin, in sand. The individual had been interred in a flexed position on the left side, facing west, with the feet to the north. A stone pestle was found with the burial, but it is not in the collection of the Peabody Museum. No information is available regarding the dating of the interment. The human remains are the partial cranium and postcranial elements belonging to an adult female. No known individual was identified. No associated funerary objects are present.

In 1897, human remains representing, at minimum, one individual were removed by an unknown person from an unknown site in Nahant. In May of 1959, the Warren Anatomical Museum, Harvard University (WAM) transferred these human remains to the Peabody Museum. The human remains are postcranial fragments belonging to an adult of unknown sex. No known individual was identified. No associated funerary objects are present.

In 1890, human remains representing, at minimum, one individual were removed by Dr. F. Humphrey from an unknown site in Ipswich. Humphrey presented these human remains to the Robert S. Peabody Institute, which in turn donated them to the Peabody Museum in February of 1963. The human remains are cranial fragments belonging to an adult of unknown sex. No known individual was identified. No associated funerary objects are present.

At an unknown date, human remains representing, at minimum, one individual were removed by Thomas Clegg from an unknown site in Lawrence. Clegg presented these human remains to the Robert S. Peabody Institute, which in turn donated them to the Peabody Museum in February of 1963. The human remains are the partial cranium belonging to an adult male. No known individual was identified. No associated funerary objects are present.

In 1890, human remains representing, at minimum, one individual were removed by Walter W. Taylor from the bank of the Merrimack River in Lowell. Taylor presented these human remains to the Robert S. Peabody Institute, which in turn donated them to the Peabody Museum in February of 1963. The human remains are the nearly complete cranium belonging to an adult male. No known individual was identified. No associated funerary objects are present.

At an unknown date, human remains representing, at minimum, two individuals were removed by some boys from a gravel pit in Ipswich. Dr. Wigglesworth, the medical examiner in Ipswich, presented these remains to Dr. Edwin V. Hill at the Department of Legal Medicine, Harvard Medical School. Hill in turn donated the remains to the Peabody Museum in March of 1964. The human remains are the partial cranium and postcranial fragments belonging to two subadults of unknown sex. No known individuals were identified. No associated funerary objects are present.

In May of 1916, human remains representing, at minimum, two individuals were removed by an unknown person from Lagrange Street in Salem. In April of 1964, these hitherto uncatalogued human remains were found in the Peabody Museum and were accessioned. The human remains are cranial and postcranial fragments belonging to one adult and one subadult of unknown sex. No known individuals were identified. No associated funerary objects are present.

At an unknown date, human remains representing, at minimum, one individual were removed by H.C. Perkins from near the mouth of the Merrimack River in Newburyport. In 1867, Perkins donated these human remains to the Peabody Museum. The human remains are the partial cranium belonging to an adult male. No known individual was identified. No associated funerary objects are present.

At an unknown date, human remains representing, at minimum, one individual were removed by H.C. Perkins from an unknown site in Beverly. In 1867, Perkins donated these human remains to the Peabody Museum. The human remains are the partial cranium belonging to an adult female. No known individual was identified. No associated funerary objects are present.

At an unknown date, human remains representing, at minimum, one individual were removed by an unknown person from an unknown site, possibly George Titcomb's cellar, in Newburyport. In 1867, Edward A. Hale donated these human remains to the Peabody Museum. Copper stains present on the human remains indicate interment sometime during the early Historic period or later (i.e., A.D. post-1600). The human remains are cranial fragments belonging to a child of unknown sex. No known individual was identified. No associated funerary objects are present.

In 1867, human remains representing, at minimum, one individual were removed by George Peabody Russell from an unknown site in Essex and donated by him to the Peabody Museum the same year. The human remains are cranial fragments belonging to an adult of unknown sex. No known individual was identified. No associated funerary objects are present.

At an unknown date, human remains representing, at minimum, one individual were removed by William C. Otis from an unknown site in Nahant. In 1868, Otis donated these human remains to the Peabody Museum. The human remains are the nearly complete cranium belonging to an adult male. No known individual was identified. No associated funerary objects are present.

In 1868, human remains representing, at minimum, two individuals were removed by Jefferies Wyman and J. Elliot Cabot from the Eagle Hill shell heap, 19ES0084, in Ipswich and donated by them to the Peabody Museum the same year. Non-funerary objects found at the site, including shells, animal bones, pottery fragments, small stemmed points, and small triangle points, indicate that the interments date to the Late Archaic through Woodland Periods (5000-500 B.P.). The human remains are cranial fragments belonging to a child of unknown sex and postcranial fragments belonging to an adult of unknown sex. No known individuals were identified. No associated funerary objects are present.

In October of 1876, human remains representing, at minimum, three individuals were removed by Joseph Ballard for the Peabody Academy of Science from an “Indian grave” in Saugus. The Peabody Academy of Science, now the Peabody Essex Museum, in turn donated these human remains to the Peabody Museum the same year. Based on the associated funerary objects, this interment dates to the post-Contact period or later (i.e., A.D. post-1600). The human remains are the nearly complete crania belonging to one adult male and one adult female and the partial cranium belonging to an adult male. No known individuals were identified. The 66 associated funerary objects are one pair of iron scissors, one iron jackknife with a molded brass handle, one bone implement, one broken bone implement, and 62 shell beads.

In 1874 and 1876, human remains representing, at minimum, 20 individuals were removed by the Essex Institute for the Peabody Academy of Science from Beesom's Pasture in Marblehead. In 1876, the Peabody Academy of Science, now the Peabody Essex Museum, donated these human remains to the Peabody Museum. The burials are described as being in a flexed position, and based on the positioning of the individuals, all the decedents likely were interred at the same time. A dark red ochre-like substance was also found on the human remains. The associated funerary objects, which are not in the collection of the Peabody Museum, include the remains of a bearskin pouch, copper tubular beads, and pottery fragments. Based on the associated funerary objects and the description of the burials at the site, these remains were likely interred during the Late Woodland Period or later (i.e., post-1000 B.P.). The human remains are the partial cranium belonging to an adult male; postcranial fragments belonging to 13 adults of unknown sex; the partial cranium and postcranial elements belonging to one adult male and one adult of unknown sex; postcranial fragments belonging to an adult male; and cranial and postcranial fragments belonging to one adult female, one adult male, and one adult of unknown sex. No known individuals were identified. No associated funerary objects are present.

In 1876 and at an unknown date, human remains representing, at minimum, nine individuals were removed by D. R. Bickford from his lawn in Marblehead. In 1876, the Peabody Academy of Science, now the Peabody Essex Museum, donated these human remains to the Peabody Museum. The human remains are the nearly complete cranium belonging to an adult female; cranial fragments belonging to two adults who are probably male; cranial fragments belonging to one adult of unknown sex, one subadult of unknown sex, and one child of unknown sex; and postcranial elements belonging to two adult females and one subadult of unknown sex. No known individuals were identified. No associated funerary objects are present.

In 1876, human remains representing, at minimum, one individual were removed by James Kimball from the corner of Essex and Cambridge Streets in Salem. That same year, the Peabody Academy of Science, now the Peabody Essex Museum, donated these human remains to the Peabody Museum. Based on an osteological analysis of these remains, this individual was of mixed Native American and African/African American ancestry and therefore lived during the post-Contact or early Historic Period or later (i.e., A.D. post-1614). The human remains are the partial cranium belonging to an adult male. No known individual was identified. No associated funerary objects are present.

In 1876, human remains representing, at minimum, four individuals were removed by James Kimball from the corner of Essex and Cambridge Streets in Salem. That same year, the Peabody Academy of Science, now the Peabody Essex Museum, donated these human remains to the Peabody Museum. The human remains are the partial cranium belonging to one adult male, cranial and postcranial fragments belonging to one adult male, one subadult of unknown sex, and cranial and postcranial fragments belonging to one child of unknown sex. No known individuals were identified. No associated funerary objects are present.

In 1872, human remains representing, at minimum, three individuals were removed by C. Cooke of the Peabody Academy of Science from the Pine Grove shell heap, 19ES0226, in Marblehead. In 1876, the Peabody Academy of Science, now the Peabody Essex Museum, donated these human remains to the Peabody Museum. Non-funerary items from the site not in the collection of the Peabody Museum include bifacial stone points, an adze, pendants, stone tools, chipping waste, and a pestle. These items indicate that interment took place during the pre-Contact Period, possibly in the Late Archaic Period (5000-3000 B.P.). The human remains are the partial cranium belonging to one adult male and postcranial fragments belonging to one adult female and one adult who is probably female. No known individuals were identified. No associated funerary objects are present.

In 1872, human remains representing, at minimum, 16 individuals were removed by C. Cooke of the Peabody Academy of Science from Linden Street in Salem. In 1876, the Peabody Academy of Science, now the Peabody Essex Museum, donated these human remains to the Peabody Museum. The human remains are postcranial fragments belonging to 11 adults of unknown sex and cranial and postcranial fragments belonging to one adult male, three adult females, and one adult of unknown sex. No known individuals were identified. No associated funerary objects are present.

In January of 1874, human remains representing, at minimum, two individuals were removed by W. B. Wyman from a location near the Pine Grove shell heap in Marblehead. In 1876, the Peabody Academy of Science, now the Peabody Essex Museum, donated these human remains to the Peabody Museum. Non-funerary items from the Pine Grove shell heap not in the collection of the Peabody Museum include bifacial stone points, an adze, pendants, stone tools, chipping waste, and a pestle. These items indicate that interment took place during the pre-Contact Period, possibly in the Late Archaic Period (5000-3000 B.P.). The human remains are cranial and postcranial fragments belonging to an adult female and postcranial fragments belonging to an adult male. No known individuals were identified. No associated funerary objects are present.

In November of 1874, human remains representing, at minimum, one individual were removed by the Essex Institute for the Peabody Academy of Science from Wyman's Pasture in Marblehead. In 1876, the Peabody Academy of Science, now the Peabody Essex Museum, donated these human remains to the Peabody Museum. Copper staining on the human remains indicate the individual was interred during the Historic/Contact Period (i.e., post-500 B.P.). The human remains are cranial and postcranial fragments belonging to an adult female. No known individual was identified. No associated funerary objects are present.

In 1872, human remains representing, at minimum, one individual were removed by Frederic Ward Putnam and the Peabody Academy of Science from the Eagle Hill shell heap, 19ES0084, in Ipswich. In 1876, the Peabody Academy of Science, now the Peabody Essex Museum, donated these human remains to the Peabody Museum. Non-funerary objects found at the site, including shells, animal bones, pottery fragments, small stemmed points, and small triangle points, indicate that the interments date to the Late Archaic through Woodland Periods (5000-500 B.P.). The human remains are cranial fragments belonging to an adult of unknown sex. No known individual was identified. No associated funerary objects are present.

In 1872, human remains representing, at minimum, one individual were removed by C. Cooke of the Peabody Academy of Science from the Wyman's Crossing shell heap in Marblehead. In 1876, the Peabody Academy of Science, now the Peabody Essex Museum, donated these human remains to the Peabody Museum. Non-funerary items from the site, which include stone tools, stone chips, animal bones, and charred wood, indicate the human remains were interred during the Late Archaic Period (5000-3000 B.P.). The human remains are postcranial fragments belonging to an adult of unknown sex. No known individual was identified. No associated funerary objects are present.

At an unknown date, human remains representing, at minimum, one individual were removed by A.J. Colburn from Peter's Falls in West Andover. In February of 1877, the Peabody Museum purchased these human remains. The human remains are the partial cranium and postcranial elements belonging to an adult male. No known individual was identified. The one associated funerary object is a metal button. The metal button post-dates the arrival of Europeans and indicates the human remains were interred during the Historic/Contact Period (i.e., post-500 B.P.).

In 1878, human remains representing, at minimum, one individual were removed by Henry Coleman from an unknown site in Swampscott. In May of 1879, Coleman donated these human remains to the Peabody Museum. The human remains are the nearly complete cranium belonging to an adult who is probably female. No known individual was identified. No associated funerary objects are present.

At an unknown date, human remains representing, at minimum, one individual were removed by a Mr. Ober from “Indian Hill,” located on Beverly Cove, in Beverly. Today, this site is the location of the Beverly Cemetery. In July of 1879, the Peabody Museum purchased these human remains as part of the Ober Collection. Objects found at the site not associated with the burial include atlatl fragments, a full-grooved axe, plain and grooved gouges, and temporally diagnostic bifaces such as Atlantic, Orient Fishtails, and Neville points. The stone implements and projectile point types support a Late to Transitional Archaic Period date for the interment (5000-3000 B.P.). The human remains are the nearly complete cranium belonging to an adult female. No known individual was identified. No associated funerary objects are present.

At an unknown date, human remains representing, at minimum, one individual were removed by an unknown person from an unknown site in Salem. In July of 1881, Cordelia A. Studley donated these human remains to the Peabody Museum. The human remains are the partial cranium belonging to an adult who is probably female. No known individual was identified. No associated funerary objects are present.

In January of 1968, human remains representing, at minimum, one individual were removed by Douglas S. Byers near or on Launching Road in Andover, after they were unearthed by a bulldozer working on construction of a new road. That same month, Byers donated these human remains to the Peabody Museum. The human remains are cranial and postcranial fragments belonging to an adult female. No known individual was identified. No associated funerary objects are present.

Middlesex County, MA

Sometime in the 1950s, human remains representing, at minimum, one individual were removed by Malcolm Brooks Davis from a location somewhere between Spy Pond and Menotomy Rocks Park, in Arlington. In October of 1975, John Blackwell donated these human remains to the Peabody Museum. The human remains are the nearly complete cranium belonging to an adult male. No known individual was identified. No associated funerary objects are present.

About 1895, human remains representing, at minimum, two individuals were removed by R. L. Richardson from burials at the Fresh Pond ice houses in Cambridge. In 1913, Richardson's wife donated these human remains to the Peabody Museum. The human remains are the partial cranium belonging to an adult male and postcranial fragments belonging to an adult of unknown sex. No known individuals were identified. No associated funerary objects are present.

In 1913, human remains representing, at minimum, one individual were removed by Samuel J. Guernsey, as part of a Peabody Museum Expedition, from a stone-lined grave in Watertown. Artifacts found in the immediate vicinity, not associated with the burial indicate these human remains were interred during the Transitional Archaic Period (3500-2500 B.P.). The human remains are cranial and postcranial fragments belonging to an adult of unknown sex. No known individual was identified. No associated funerary objects are present.

In 1913, human remains representing, at minimum, one individual were removed by Samuel J. Guernsey, as part of a Peabody Museum Expedition, from a grave in Watertown. A description of the burial noted that there were acorns at the bottom of the pit, and the human remains rested against the side of the pit and were nearly all decayed. Artifacts found in the immediate vicinity, not associated with the burial indicate these human remains were interred during the Transitional Archaic Period (3500-2500 B.P.). The human remains are cranial and postcranial fragments belonging to an adult of unknown sex. No known individual was identified. No associated funerary objects are present.

At an unknown date, human remains representing, at minimum, 14 individuals were likely removed by George or Cheston Sawtelle from an unknown site in the vicinity of Lowell. Subsequently, these human remains formed part of the Sawtelle Collection at the Robert S. Peabody Institute. In 1951, the Robert S. Peabody Institute donated the human remains to the Peabody Museum through Douglas S. Byers. The human remains are cranial and postcranial fragments belonging to one child, three subadults, and four adults, all of unknown sex; cranial fragments belonging to two adults of unknown sex; cranial fragments belonging to an adult male; cranial fragments belonging to two adult females; and cranial fragments belonging to an individual of unknown age and sex. No known individuals were identified. No associated funerary objects are present.

At an unknown date, human remains representing, at minimum, five individuals were removed by an unknown person from a grave in Winchester. An unknown person likely donated these human remains to the Peabody Museum in 1892. The human remains are the partial cranium and postcranial elements belonging to five adults, four of whom are of unknown sex and one who is probably female. No known individuals were identified. No associated funerary objects are present.

At an unknown date, human remains representing, at minimum, one individual were removed by an unknown person from a sand bank in West Newton. These human remains were likely donated to the Peabody Museum by the West Newton Board of Health in 1895. The human remains are the partial cranium and postcranial elements belonging to an adult female. No known individual was identified. No associated funerary objects are present.

In 1877, human remains representing, at minimum, one individual were removed by James G. Wade from his farm in Wayland. In 1895, Wade donated these human remains to the Peabody Museum. The human remains are the partial cranium and postcranial elements belonging to a subadult who is probably male. No known individual was identified. No associated funerary objects are present.

At an unknown date, human remains representing, at minimum, two individuals were removed by an unknown person from a sand bank on Washington Street in West Newton. In 1896, the West Newton Board of Health donated these human remains to the Peabody Museum. The human remains are the partial cranium and postcranial elements belonging to an adult female and cranial fragments belonging to a child of unknown sex. No known individuals were identified. No associated funerary objects are present.

In January of 1967, human remains representing, at minimum, one individual were removed by Ramon de Cruz and James Di Tucci from the fill or dump for the Charles Farm located behind a cemetery, in Cambridge. Presumably, these human remains had been bulldozed off the edge of the cemetery. That same month, de Cruz and Di Tucci donated the human remains to the Peabody Museum. The human remains are cranial and postcranial fragments belonging to an adult male. No known individual was identified. No associated funerary objects are present.

In August of 1967, human remains representing, at minimum, one individual were removed by Roger W. Hamilton and Robert F. Doherty from the fill or dump for the Charles Farm, located behind a cemetery, in Cambridge. Presumably, these human remains had been bulldozed off the edge of the cemetery. In September of 1967, Hamilton and Doherty donated the human remains to the Peabody Museum. The human remains are cranial fragments belonging to an adult of unknown sex. No known individual was identified. No associated funerary objects are present.

Norfolk County, MA

In 1901, human remains representing, at minimum, 14 individuals were removed by William O. Crosby from the Squantum shell heap in Quincy. That same year, Crosby donated these human remains to the Peabody Museum. Although this site is a known Native American shell heap, no information concerning the context or date of these human remains is available. The human remains are cranial and postcranial fragments belonging to two adults who are probably female, four adults of unknown sex, seven children of unknown sex, and one subadult male. No known individuals were identified. No associated funerary objects are present.

In 1927, human remains representing, at minimum, one individual were removed by Augustus Hemenway from the vicinity of Green Street in Canton. That same year, Hemenway gave these human remains to the Peabody Museum. The human remains are the partial cranium belonging to an adult male. No known individual was identified. No associated funerary objects are present.

In October of 1937, human remains representing, at minimum, two individuals were removed by Marshall T. Newman of Harvard University's Division of Anthropology from the vicinity of Crabtree Road in Quincy. That same month, the Division of Anthropology gave these human remains to the Peabody Museum. The individuals were interred in a flexed position with the head to the east and with several rolled copper sheet beads around the head. Copper staining on the human remains and the associated copper sheet beads indicate this interment dates to the post-Contact period (i.e., A.D. post-1600). The human remains are the nearly complete cranium and postcranial fragments belonging to an adult male and postcranial fragments belonging to an adult female. No known individuals were identified. The three associated funerary objects are two copper beads with attached human hair and one flat ovate stone.

At an unknown date, human remains representing, at minimum, one individual were removed by the Police Department of Quincy from an unknown site in Quincy. In November of 1954, the Quincy Police Department donated these human remains to the Peabody Museum through Edward E. Hunt. The human remains are the nearly complete cranium and postcranial elements belonging to an adult female. No known individual was identified. No associated funerary objects are present.

At an unknown date, human remains representing, at minimum, one individual were removed by Dr. H.B. Inches from an unknown site in Brookline. Inches presented these human remains to the Boston Society for Medical Improvement (BSMI). In 1888-1889, the cabinet of the BSMI was officially transferred to the Warren Anatomical Museum, Harvard University (WAM), and in May of 1959, WAM transferred these human remains to the Peabody Museum. The human remains are the partial cranium belonging to an adult who is probably male. No known individual was identified. No associated funerary objects are present.

In August of 1898, human remains representing, at minimum, one individual were removed during a Peabody Museum expedition from Hough's Neck in Quincy. These human remains were found with five other skeletons not in the collection of the Peabody Museum and whose locations are unknown. The human remains are the partial cranium belonging to an adult male. No known individual was identified. No associated funerary objects are present.

In October of 1969, human remains representing, at minimum, nine individuals were removed by Dr. Stephen Williams and Dr. Dena Dincauze, as part of a Peabody Museum expedition, from the Burr Lane Cemetery in Canton. These human remains were removed from burials in a known, eighteenth-century “Praying Indian” cemetery of the Ponkapoag. The burials in this cemetery exhibited English customs of the eighteenth century, such as securing shrouds with copper pins, using pine coffins, and rectangular graves. Grave markers were likely present, as one footstone was discovered. Objects associated with burials from this site, such as coffin nails, an eighteenth-century kaolin pipe, a fragment of ceramic, a piece of lead shot, and a fragment of shroud cloth with a copper pin adhering, also support an early-mid eighteenth-century date for these interments. A small-handled cup found in the immediate vicinity but not in association with any burials is of a type of English ware in use from 1690-1720. The human remains are postcranial fragments belonging to an adult who is probably male and an adult of unknown sex; the partial cranium and postcranial fragments belonging to an adult female; cranial fragments belonging to an adult of unknown sex; the nearly complete skeletons belonging to an adult female and an adult male; cranial and postcranial fragments belonging to an adult who is probably female; the nearly complete cranium and postcranial fragments belonging to an adult who is probably female; and the partial cranium belonging to an adult of unknown sex. No known individuals were identified. The seven associated funerary objects are one bag of nails, one bag of textile fragments, one clay pipe, one fragment of white-glazed ceramic material, one fragment of lead shot, one lot of shroud cloth fragments with an adhering copper pin, and one lot of iron nails and fragments with adhering wood fragments.

Suffolk County, MA

At an unknown date, human remains representing, at minimum, seven individuals were removed by an unknown person from an unknown burial location, possibly at Bunker Hill in Charlestown. In 1900, an unknown person donated these human remains to the Peabody Museum. The human remains are the partial cranium and postcranial elements belonging to an adult male, an adult female, and five adults of unknown sex. No known individuals were identified. No associated funerary objects are present.

In June of 1861, human remains representing, at minimum, one individual were removed by Dr. P.A. O'Connell of the United States Army from a burial site ten feet from the eastern edge of Long Island in Boston Harbor. O'Connell sent these human remains to Dr. Henry G. Clark, who in turn presented them to the Warren Anatomical Museum, Harvard University (WAM) in 1862. In 1916, the Peabody Museum received the human remains via an exchange with WAM. The Long Island burial site was an organized burial ground, with the burials arranged in rows. Individuals were consistently buried in a flexed posture with the head directed to the south and without accompanying funerary objects. This contextual information suggests these interments date to the Late Woodland period or later (i.e., post-1000 B.P.). The history of Long Island strongly indicates that during and after King Philip's War (A.D. 1675-1676), it served as a burial place for a population of New England Native American individuals that included, but was not limited to, the Massachusett and Pawtucket. During King Philip's War, Long Island was used as an internment camp for so-called “Praying Indians” captured from the 14 towns within Massachusett and Pawtucket homelands. The internment of Praying Indians on Long Island, Deer Island, and other Boston Harbor islands ended in 1677, but not before many of them had died of starvation, disease, and exposure. During later historic periods, several other groups used Long Island for burials, at least some of whom may have included individuals of Native American ancestry. The burial places of these individuals may have been confused with burial places of Native American individuals in recorded histories, remembered histories, and during archeological and other island surveys. The human remains are the partial cranium belonging to an adult female. No known individual was identified. No associated funerary objects are present.

In November of 1921, human remains representing, at minimum, one individual were removed by Frank N. Belcher from the Belcher estate in Winthrop. That same year Belcher donated these human remains to the Peabody Museum. Belcher described the burial as “on the southeast slope of a sand and gravel soil, about 4 feet deep.” The human remains are cranial and postcranial fragments belonging to an adult male. No known individual was identified. No associated funerary objects are present.

At an unknown date, human remains representing, at minimum, one individual were removed by an unknown person from Washington Street in Boston. In May of 1959, the Warren Anatomical Museum, Harvard University (WAM) transferred these human remains to the Peabody Museum. The human remains are the partial cranium belonging to an adult male. No known individual was identified. No associated funerary objects are present.

In 1878, human remains representing, at minimum, one individual were removed by A.A. Tapley from the G.A. Tapley Farm in Revere. That same year, A.A. Tapley donated these human remains to the Peabody Museum. The human remains are the partial cranium belonging to an adult female. No known individual was identified. No associated funerary objects are present.

In December of 1881, human remains representing, at minimum, two individuals were removed by E.H. Whorf from an unknown site in Revere. That same year, Walter Faxon donated these human remains to the Peabody Museum. The human remains are the nearly complete skeleton belonging to an adult male and postcranial fragments belonging to an adult of unknown sex. No known individuals were identified. No associated funerary objects are present.

In June of 1886, human remains representing, at minimum, one individual were removed by Dr. D.D. Slade from a “ledgy hillside” northeast of the Reservoir Gateway in Brighton. That same month, Slade donated these human remains to the Peabody Museum. The human remains were removed from under 3.5 feet of loam. The human remains are the partial cranium and postcranial elements belonging to a subadult female. No known individual was identified. No associated funerary objects are present.

In May of 1888, human remains representing, at minimum, one individual were removed by William Doogue, Dexter Brackett, and Franklin Otis from the vicinity of the Tremont Street Mall on the Boston Common in Boston. That same month, Doogue, Brackett, and Otis donated these human remains to the Peabody Museum. At the time of removal, clam shells were found in association with the human remains. The human remains are the nearly complete cranium and postcranial fragments belonging to an adult male. No known individual was identified. The one associated funerary object is a clam shell (Mya arenaria).

In April of 1888, human remains representing, at minimum, 13 individuals were removed by railroad workers and railroad superintendent C.H. Hammond from the Central Station site, 19SU0003, in Winthrop. In May of 1888, Hammond donated these human remains to the Peabody Museum. The Central Station site dates to ca. 1450-1634. Objects associated with burials at the site, such as copper items and European materials provide a date during the Historic/Contact Period, and a cattle pound built by the town near the burials provides a terminus ante quem date of 1634 for the site. The human remains are partial crania belonging to one adult female and one adult male; cranial fragments belonging to one adult who is probably female and one adult of unknown sex; the nearly complete, partially mummified cranium belonging to an adult male; cranial and postcranial elements belonging to three adult males and three adult females; cranial and postcranial fragments belonging to one child of unknown sex; and cranial and postcranial fragments belonging to one adult of unknown sex. No known individuals were identified. The seven associated funerary objects include four objects that are present in the Peabody Museum collections and three objects that are currently missing. The four present associated funerary objects are one bag of copper fragments, one bag of bark cloth fragments, one sheet of copper, and one bag of birchbark mat fragments. The three associated funerary objects currently missing are two lots of copper and bark cloth fragments and one lot of sand.

In 1888 and 1890, human remains representing, at minimum, 14 individuals were removed by Frederic Ward Putnam, as part of a Peabody Museum expedition, from the Central Station site, 19SU0003, in Winthrop. As described above, the Central Station site is dated to ca. 1450-1634. The human remains are the nearly complete skeletons belonging to three adult males, one adult female, one subadult who is probably male, and one child of unknown sex; partial cranium belonging to one infant of unknown sex; cranial and postcranial fragments belonging to two infants of unknown sex and one child of unknown sex; partial cranium belonging to one adult male; cranial and postcranial fragments belonging to one child of unknown sex; and cranial fragments belonging to two adults of unknown sex. No known individuals were identified. The 82 associated funerary objects include 81 objects that are present in the Peabody Museum collections and one object that is currently missing. The 81 present associated funerary objects are one fragmented pottery vessel, six lots of pottery vessel fragments, one pottery vessel, two iron implements, eight copper or brass beads, 11 bone points, one beaver tooth, one beaver tooth fragment, one brass arrowpoint, one lot of copper beads and fragments of string, one lot of bark mat fragments, one shell, one strand of shell beads, 10 beads, two strands of glass beads, 11 shell and blue glass beads, one lot of a clay pipe and its fragments, one bag of textile fragments, two metal spoons, six brass or copper ornaments, four shell beads, one small pottery vessel and three sherds, one stone effigy pestle, one rubbing stone, one antler spoon, and one bone implement. The one associated funerary object currently missing is the fragment of a pottery vessel.

Between 1885 and 1887, human remains representing, at minimum, 28 individuals were removed by the Boston Gas Light Company from Commercial Point in Dorchester, during construction. In 1889, Walter K. Means of the Boston Gas Light Company donated these human remains to the Peabody Museum. The human remains were found at the top of a beach, between two and three feet below the original surface, with streaks of beach gravel and scatterings of clam shells and black ashes visible in the soil. There were no funerary objects found with the human remains, but the partial preservation of some of the human remains due to the action of copper salts suggests that a copper burial object had also been interred. The presence of this cupric staining indicates that the interments post-date the Contact Period and provides a burial date of post-500 B.P. The human remains are cranial and postcranial fragments belonging to an adult of unknown sex; cranial fragments belonging to two adults and one subadult of unknown sex; cranial elements belonging to four children of unknown sex; postcranial fragments belonging to four adults, four subadults, four children, and one infant of unknown sex; postcranial fragments belonging to an adult female; the nearly complete cranium and postcranial elements belonging to an adult female; cranial and postcranial elements belonging to two children and one infant of unknown sex; cranial elements belonging to an adult female; and cranial and postcranial fragments belonging to an adult who is probably female. No known individuals were identified. No associated funerary objects are present.

About 1899, human remains representing, at minimum, one individual were removed by Freeman F. Burr from the Squantum shell heap in Quincy. That same year, Burr donated these human remains to the Peabody Museum. The human remains were located approximately a foot below the level of the shell heap. Based on the non-funerary objects at this site, which include a chipped stone implement; fragments of thin, black, friable, sand-tempered, decorated ceramics; shells; a slate slab; charcoal; and fragments of bone, this interment most likely occurred during the Late Archaic to Late Woodland periods (5000-500 B.P.). The human remains are the nearly complete skeleton belonging to one infant of unknown sex. No known individual was identified. No associated funerary objects are present.

At an unknown date, human remains representing, at minimum, one individual were likely removed by an unknown person from Revere. In 1892, G. Arthur Tapley donated these human remains were donated to the Peabody Museum. The human remains are partial cranial elements belonging to an adult male. No known individual was identified. No associated funerary objects are present.

At an unknown date, human remains representing, at minimum, one individual were removed by an unknown person from an unknown site in Chelsea. The human remains were likely donated to the Peabody Museum by Jefferies Wyman in 1867. The human remains are cranial elements belonging to an adult female. No known individual was identified. No associated funerary objects are present.

Between 1880 and 1899, human remains representing, at minimum, one individual were removed by George B. Frazar from a burial place in Winthrop. In 1899, Frazar sold these human remains to the Peabody Museum. The burial place in question is likely the Central Station site (19SU0003), also known as the Winthrop Cemetery or The Pound, which was discovered and destroyed during railroad depot construction between 1888 and 1890. As described above, the Central Station site is dated to ca. 1450-1634. The human remains are cranial elements belonging to an adult female. No known individual was identified. No associated funerary objects are present.

In April of 1971, human remains representing, at minimum, one individual were removed by Dr. Dena Dincauze, as part of a Peabody Museum expedition, from a shell midden on Peddock's Island (19PL0003 and 19-SU-3a) in Boston Harbor. The shell midden above the human remains was five to six inches deep; no shells were found below the human remains in the burial pit. The burial pit was lined with black organic matter, and red ochre stain was observed in the northeast corner of the pit, on some of the bones. Three fieldstone slabs of Cambridge slate were in the north and northeast areas of the pit, beside and over the head. The human remains had been tightly bundled, almost certainly had been defleshed, and were at least partially articulated at the time of burial. Human remains from this site have been radiocarbon dated to 4435 +/− 225 B.P., or 2600-2900 B.P., which corresponds to the Late Archaic Period (5000-3000 B.P.) for the Peddock's Island area. The red ochre found with the human remains supports this date. The human remains are cranial and postcranial fragments belonging to an adult male. No known individual was identified. No associated funerary objects are present.

Between 1969 and 1972, human remains representing, at minimum, one individual were removed by Dr. Dena Dincauze, David Braun, and William Fitzhugh, as part of a Peabody Museum expedition, from Thompson's Island in Boston Harbor. This habitation and midden site covers a large part of the surface of the sandy elevation at the southeastern corner of the island. Occupation most likely began during the Atlantic phase, ca. 4000 B.P., and continued through the Late Woodland Period, ca. 1000-500 B.P. The interment is a shell midden sub-burial, which indicates that it pre-dates at least some of the occupational periods of the site. The burial position was most likely flexed with a northern orientation. No artifacts were found within the burial pit and there were no temporally diagnostic artifacts within the two clam shell strata located directly above the burial. However, in other portions of the site similar clam shell strata contained artifacts ranging from 4000-500 B.P., suggesting that the burial dates to the earlier occupational period of the Late Archaic. The human remains are cranial fragments belonging to an adult of unknown sex. No known individual was identified. No associated funerary objects are present.

Historical documents and other information obtained through consultation show that areas of northeastern Massachusetts were aboriginally occupied by the Wampanoag people. These types of sources also show that portions of Suffolk, Essex, Norfolk, and Middlesex Counties, MA, were aboriginally occupied by the Massachusett and Pawtucket peoples, neither of whom are represented by any federally recognized Indian Tribe.

Determinations Made by the Peabody Museum of Archaeology and Ethnology, Harvard University

Officials of the Peabody Museum of Archaeology and Ethnology, Harvard University have determined that:

• Pursuant to 25 U.S.C. 3001(9), the human remains described in this notice are Native American based on osteological analysis, archeological context, and museum records.

• Pursuant to 25 U.S.C. 3001(9), the human remains described in this notice represent the physical remains of 277 individuals of Native American ancestry.

• Pursuant to 25 U.S.C. 3001(3)(A), the 207 objects described in this notice are reasonably believed to have been placed with or near individual human remains at the time of death or later as part of the death rite or ceremony.

• Pursuant to 25 U.S.C. 3001(2), a relationship of shared group identity cannot be reasonably traced between the Native American human remains and associated funerary objects and any present-day Indian Tribe.

• Treaties, Acts of Congress, or Executive Orders, indicate that the land from which the Native American human remains and associated funerary objects were removed is the aboriginal land of the Mashpee Wampanoag Tribe (previously listed as Mashpee Wampanoag Indian Tribal Council, Inc.) and the Wampanoag Tribe of Gay Head (Aquinnah) (hereafter referred to as “The Tribes”).

• Pursuant to 43 CFR 10.11(c)(1), the disposition of the human remains and associated funerary objects may be to The Tribes.

Additional Requestors and Disposition

Representatives of any Indian Tribe or Native Hawaiian organization not identified in this notice that wish to request transfer of control of these human remains and associated funerary objects should submit a written request with information in support of the request to Jane Pickering, William & Muriel Seabury Howells Director, Peabody Museum of Archaeology and Ethnology, Harvard University, 11 Divinity Avenue, Cambridge, MA 02138, telephone (617) 496-2374, email jpickering@fas.harvard.edu, by December 19, 2022. After that date, if no additional requestors have come forward, transfer of control of the human remains and associated funerary objects to The Tribes may proceed.

The Peabody Museum of Archaeology and Ethnology, Harvard University is responsible for notifying The Consulted Tribes and Groups that this notice has been published.

Dated: November 9, 2022.
Melanie O'Brien,
Manager, National NAGPRA Program.

[FR Doc. 2022-25136 Filed 11-17-22; 8:45 am]

BILLING CODE 4312-52-P